GENERAL SERVICES ADMINISTRATION

Public Buildings Service

Notice of Availability of Draft Environment Impact Statement; Proposed Federal Courthouse and Office Building, Eugene/Springfield Metro Area, Lane County, Oregon

Pursuant to section 102(2)(C) of the National Environmental Policy Act (NEPA) of 1969, as amended, as implemented by the Council on Environmental Quality (40 CFR Parts 1500-1508), the General Services Administration (GSA) has filed with the Environmental Protection Agency, and made available to other government and interested private parties, the Draft Environmental Impact Statement (DEIS) for the proposed construction of a 265,290 gross square feet Courthouse and office building including 80 secured parking spaces, located in the urban center of either Eugene/Springfield, Lane County, Oregon.

Two public meetings will be held to solicit comment on the DEIS. They will be held on September 26 Eugene at the Hilton Hotel, 66 East 6th Ave, Eugene, WA, and on September 27th at the Springfield City Hall—Council Meeting Room, 225 5th Street, Springfield, OR.

The DEIS is on file and a copy may be obtained from U.S. General Services Administration, Region 10, Attention: Michael D. Levine, 10PCA, 400 15th Street, SW, Auburn, Washington 98001 (206) 931-7263. A summary of the DEIS can be viewed at the following website: www.northwest.gsa.gov/eugeneusch/intro.htm.

Written comments regarding the Draft Environmental Impact Statement may be submitted until 45 days after publication of the Draft and should be addressed to: John L. Meerscheidt, Herrera Environmental Consultants, 2200 Sixth Ave, Suite 601, Seattle, Washington 98121.

Dated: September 5, 2000.
L. Jay Pearson,
Regional Administrator (10A).

[FR Doc. 00-23604 Filed 9-13-00; 8:45 am]

BILLING CODE 6820-23-M